DEPARTMENT OF AGRICULTURE

Grain Inspection, Packers and Stockyards Administration

7 CFR Part 868

RIN 0580-AA89

Review Inspection Requirements for Graded Commodities

AGENCY: Grain Inspection, Packers and Stockyards Administration, USDA.

ACTION: Final rule.

SUMMARY: The Grain Inspection, Packers and Stockyards Administration (GIPSA) is amending the regulations under the United States Agricultural Marketing Act of 1946 (AMA), as amended, to allow interested persons to specify the quality factor(s) that would be redetermined during an appeal inspection or a Board appeal inspection for grade. Currently, both appeal and Board appeal inspections for grade must include a redetermination (i.e., a complete review or examination) of all official factors that may determine the grade, as reported on the original certificate, or as required to be shown. Requiring that all quality factors be completely reexamined during an appeal or Board appeal inspection for grade is not efficient, is time consuming, and can be costly. Further, a detailed review of the preceding inspection service is not always needed to confirm the quality of the commodity. This action will allow interested parties to specify which quality factor(s) should be redetermined during the appeal or Board appeal inspection service.

DATES: Effective Dates: December 15, 2005.

FOR FURTHER INFORMATION CONTACT: John C. Giler, Deputy Director, Field Management Division: e-mail address john.c.giler&usda.gov, telephone: (202) 720-1748.

SUPPLEMENTARY INFORMATION:

Executive Order 12866

This action has been determined to be not significant for purpose of Executive Order 12866 and, therefore, has not been reviewed by the Office of Management and Budget (OMB). This action simplifies the regulations concerning official requirements for commodity inspections. This action reduces cost to the affected entities.

Regulatory Flexibility Act Certification

GIPSA has considered the economic impact of this rule on small entities and has determined that its provision would not have a significant economic impact on a substantial number of small entities, as defined in the Regulatory Flexibility Act (RFA) (5 U.S.C. 601 et seq.).

The action will affect entities engaged in shipping graded commodities to and from points within the United States and exporting graded commodities from the United States. GIPSA estimates there are approximately 2,500 rice mills, and bean, pea, and lentil processing plants in the United States that could receive official inspection services by GIPSA, designated/delegated states, and cooperators. Inspections of graded commodities are performed by eight GIPSA offices, one Federal/State office, and six designated States which operate under cooperative agreements and under GIPSA supervision. Under the provisions of the AMA, it is not mandatory for graded commodities to be officially inspected. Further, most users of the official inspection services and those entities that perform these services do not meet the requirements of small entities. Even though some users could be considered small entities, this action relieves regulatory requirements and improves the efficiency of official inspection services. No additional cost is expected to result from this action.

Requiring all appeal inspections and Board appeal inspections for grade to include a complete review of all official factors is not needed by applicants or other parties to transactions, or by official inspection personnel. Furthermore, this requirement often reduces the efficiency of providing official inspection services and increases the costs.

This rule relieves regulatory requirements and improves the efficiency of official inspection services. Further the regulations are applied equally to all entities.

Executive Order 12988

Under Executive Order 12988, Civil Justice Reform, this action is not intended to have a retroactive effect. This action will not preempt any State or local laws, regulations, or policies unless they present irreconcilable conflict with this rule. There are no administrative procedures that must be exhausted prior to any judicial challenge to the provisions of this notice.

Information Collection and Recordkeeping Requirements

In compliance with the Paperwork Reduction Act of 1995 (44 U.S.C. 3501 et seq.), the information collection and recordkeeping requirements in Part 868 have been previously approved by OMB No. 0580-0013.

GIPSA is committed to compliance with the Government Paperwork Elimination Act, which requires Government agencies, in general, to provide the public the option of submitting information or transacting business electronically to the maximum extent possible.

Background

On July 7, 2005, GIPSA proposed in the Federal Register (70 FR 39199) to revise the regulations under the AMA to allow interested persons to specify the quality factor(s) that would be redetermined during an appeal inspection or a Board appeal inspection for grade. This proposal required comments to be received on or before September 6, 2005. GIPSA had proposed this action because requiring that all quality factors be completely reexamined during an appeal or a Board appeal inspection is not efficient, is time consuming, and can be costly. Further, a detailed review of the preceding inspection service is not always needed to confirm the quality of the commodity. GIPSA proposed that applicants for service be allowed to specify the factor(s) that are to be redetermined as part of an appeal or Board appeal inspection service for grade because it provides a more effective and more efficient inspection service and better meets the industry's needs. However, appeal and board appeal inspections for grade may include a review of any pertinent factor(s), as deemed necessary by official personnel. This would ensure issuance of an accurate grade.

Comment Review

GIPSA received no comments during the comment period.

Final Action

Accordingly, GIPSA is revising 7 CFR 868.1 to redefine the definitions of appeal and Board appeal inspection services, and revising the regulatory text in 7 CFR 868.60 to revise the conditions for requesting appeal and Board appeal inspection services.

List of Subjects in 7 CFR Part 868

Administrative practice and procedure, Agricultural commodities.

For reasons set out in the preamble, 7 CFR part 868 is proposed to be amended as follows:

PART 868—GENERAL REGULATIONS AND STANDARDS FOR CERTAIN AGRICULTURAL COMMODITIES

1. The authority citation for part 868 continues to read as follows:

Authority: Secs. 202-208, 60 Stat. 1087, as amended (7 U.S.C. 1621, et seq.)

2. Section 868.1, paragraphs (b)(3), and (b)(6) are revised to read as follows:

§ 868.1 Meaning of terms.

* * * * *

(b) * * *

(3) Appeal inspection service. A review by the Service of the result(s) of an original inspection or retest inspection service.

* * * * *

(6) Board appeal inspection service. A review by the Board of Appeals and Review of the result(s) of an original inspection or appeal inspection service on graded commodities.

* * * * *

3. Section 868.60, paragraph (b) and the OMB citation at the end of the section are revised to read as follows:

§ 868.60 Who may request appeal inspection service.

* * * * *

(b) Kind and scope of request. When the results for more than one kind of service are reported on a certificate, an appeal inspection or Board appeal inspection service, as applicable, may be requested on any or all kinds of services reported on the certificate. The scope of an appeal inspection service will be limited to the scope of the original inspection or, in the case of a Board appeal inspection service, the original or appeal inspection service. A request for appeal inspection of a retest inspection will be based upon the scope of the original inspection. If the request specifies a different scope, the request shall be dismissed. Provided, however, that an applicant for service may request an appeal or Board appeal inspection of specific factor(s) or official grade and factors. In addition, appeal and Board appeal inspection for grade may include a review of any pertinent factor(s), as deemed necessary by official personnel.

(Approved by the Office of Management and Budget under control number 0580-0013).

James E. Link,
Administrator, Grain Inspection, Packers and Stockyards Administration.

[FR Doc. 05-22586 Filed 11-14-05; 8:45 am]

BILLING CODE 3410-EN-M